DEPARTMENT OF ENERGY

Federal Energy Regulatory Commission

[Project No. 9974-048]

Wisconsin Department of Natural Resources, Complainant, v. Halstead Construction, Respondent; Notice of Complaint

April 30, 2002.

Take notice that on April 26, 2002, the Wisconsin Department of Natural Resources (WDNR) filed a complaint against Halstead Construction, owner of the Upper Watertown Dam.

WDNR states that a copy of the complaint was delivered to Thomas Philipsborn, Hastead Construction, Chicago IL.

WDNR states that the Upper Watertown Dam, project no. 9974 is not in compliance with the Exemption issued in 1989. The WDNR alleges that the dam is not fully operational, doesn't have the necessary spillway capacity, is not following the Public Safety Plan, is not maintained ice-free; and the turbine leaks oil if generating.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before May 16, 2002 . Protests will be considered by the Commission in determining the appropriate action to be taken, but will not serve to make protestants parties to the proceeding. Any person wishing to become a party must file a motion to intervene. Answers to the complaint shall also be due on or before May 16, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-11147 Filed 5-3-02; 8:45 am]

BILLING CODE 6717-01-P